DEPARTMENT OF THE INTERIOR

National Park Service

National Register of Historic Places; Notification of Pending Nominations and Related Actions

Nominations for the following properties being considered for listing or related actions in the National Register were received by the National Park Service before April 16, 2005. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by May 26, 2005.

Carol D. Shull,
Keeper of the National Register of Historic Places.

Arkansas

Benton County

Springfield to Fayetteville Road—Elkhorn Tavern Segment, (Cherokee Trail of Tears MPS) NW of Elkhorn Tavern within Pea Ridge National Park, Garfield, 05000484

Johnson County

Dover to Clarksville Road —Hickeytown Road Segment, (Cherokee Trail of Tears MPS) Hickeytown Rd. E of U.S. 64, Lamar, 05000464

Randolph County

Campbell Cemetery, Address Restricted, Imboden, 05000463

Maryland

Baltimore Independent City

Rombro Building, (Cast Iron Architecture of Baltimore MPS) 22-24 S. Howard St., Baltimore (Independent City), 05000485

Massachusetts

Barnstable County

Coast Guard Moto Lifeboat CG 36500, berthed at Rock Harbor, Orleans, 05000467

Essex County

River Road—Cross Street Historic District, (Farms and Rural Retreats of Topsfield, Massachusetts MPS) Cross, Prospect Sts., River, Salem Rds., Topsfield, 05000465

Middlesex County

Higginson, Henry, House, 44 Baker Farm Rd., Lincoln, 05000468

Sweetser, Warren, House, (Stoneham MRA) 90 Franklin St., Stoneham, 05000466

Missouri

Greene County

Finkbiner Building, (Springfield, Missouri MPS AD) 509-513 W. Oliver St., Springfield, 05000469

Nevada

Humboldt County

Winnemucca, 95 S. Bridge St., Winnemucca, 05000471

Washoe County

Miller-Rowe—Holgate House, 18 Winter St., Reno, 05000470

Virginia

Albemarle County

Pantops Farm, 400 Peter Jefferson St., Charlottesville, 05000483

Harrisonburg Independent City

Whitesel Brothers, 131 W. Grace St., Harrisonburg (Independent City), 05000472

Henry County

Spencer—Penn School, 30 George Taylor Rd., Spencer, 05000482

Loudoun County

Taylorstown Historic District (Boundary Increase), 13122 Furnace Mountain, 13090 Taylorstown, 12969 Taylorstown, 12995 Hoysville, and 13000 Hoysvile Rds., Taylorstown, 05000474

Petersburg Independent City

North Battersea—Pride's Field Historic District, Roughly along the Appomatox River bank, McKenzie, W. High., Upper Appomattox Sts., from 1250 W. High to Fleet Sts., Petersburg (Independent City), 05000475

Pittsylvania County

Woodlawn, 5321 Henrys Mill Rd., Vernon Hill, 05000478

Pulaski County

Rockwood, 5189 Rockwood Dr., Dublin, 05000473

Richmond Independent City

Southern Stove Works, 1215 Hermitage Rd., Richmond (Independent City), 05000480

Rockingham County

Massanetta Springs Historic District, 712 Massanetta Springs RD., Harrisonburg, 05000477

Salem Independent City

Preston House, 1936 W. Main St., Salem (Independent City), 05000479

Westmoreland County

Kinsale Historic District, Roughly along Kinsale Rd, Kinsale Bridge Rd., Sigouney Dr., Great House Rd., and Yeocomico Ln., Kinsale, 05000476

Wythe County

Graham's Forge Mill, VA 639, Max Meadows, 05000481

[FR Doc. 05-9339 Filed 5-10-05; 8:45 am]

BILLING CODE 4312-51-P